DEPARTMENT OF COMMERCE

National Oceanic and Atmospheric Administration

RIN 0648-XE740

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 167th meeting by teleconference and webinar to discuss and make recommendations on fishery management issues in the Western Pacific Region.

DATES: The Council will meet on August 3, 2016, between 1 p.m. and 3 p.m. (Hawaii Standard Time (HST)); 12 noon and 2 p.m. (American Samoa Standard Time (ASST)); and August 4, 2016, between 9 a.m. and 11 a.m. (Marianas Standard Time (MST)). All times listed are local island times.

ADDRESSES: The meeting will be held by teleconference and webinar. The following venues will also be host sites for the teleconference: Council Conference Room, 1164 Bishop Street, Suite 1400, Honolulu, HI; Land Grant Conference Room, American Samoa Community College, Agriculture, Community and Natural Resources, Mapusaga Road, Malaeimi Village, American Samoa; Guam Hilton Resort and SPA, 202 Hilton Road, Tumon Bay, Guam; Department of Land and Natural Resources Conference Room, Santa Remedio Drive, Lower Base, Saipan, MP. For specific time and agenda, see SUPPLEMENTARY INFORMATION.

The teleconference will be conducted by telephone and by web. The teleconference numbers are: U.S. toll-free: 1 (888) 482-3560 or International Access: +1 (647) 723-3959, and Access Code: 5228220; The webinar can be accessed at: https://wprfmc.webex.com/join/info.wpcouncilnoaa.gov.

FOR FURTHER INFORMATION CONTACT: Kitty M. Simonds, Executive Director; telephone: (808) 522-8220.

SUPPLEMENTARY INFORMATION: Public comment periods will be provided throughout the agenda. The order in which agenda items are addressed may change. The meetings will run as late as necessary to complete scheduled business. Written comments must be received by July 29, 2016. Oral testimony may be provided during designated periods during the meeting at the host sites or by teleconference. Background documents will be available from, and written comments should be sent to, Kitty M. Simonds, Executive Director; Western Pacific Fishery Management Council, 1164 Bishop Street, Suite 1400, Honolulu, HI 96813, phone: (808) 522-8220 or fax: (808) 522-8226.

Schedule and Agenda for the 167th Council Meeting

1 p.m.-3 p.m., Wednesday, August 3, 2016 (HST); 12 noon-2 p.m., Wednesday, August 3, 2016 (ASST); 9 a.m.-11 a.m., Thursday, August 4, 2016 (MST).

1. Welcome and Introductions

2. Review and Approval of the 167th Agenda

3. Expansion of the Papahanaumokuakea Marine National Monument

a. Report on status of the potential President proposal

b. Report on Council actions and activities

c. Public Comment

d. Discussion and recommendations

4. U.S. Territory Bigeye Tuna Limit Options

5. Council Family Changes

a. Scientific and Statistical Committee Member Appointments

b. Advisory Panel Changes

6. International Union for Conservation of Nature Resolutions

7. Public Comment

8. Other Business

9. Council Discussion and Recommendations

Non-Emergency issues not contained in this agenda may come before the Council for discussion and formal Council action during its 167th meeting. However, Council action on regulatory issues will be restricted to those issues specifically listed in this document and any regulatory issue arising after publication of this document that requires emergency action under section 305(c) of the Magnuson-Stevens Act, provided the public has been notified of the Council's intent to take action to address the emergency.

Special Accommodations

The host sites are physically accessible to people with disabilities. Requests for sign language interpretation or other auxiliary aids should be directed to Kitty M. Simonds, (808) 522-8220 (voice) or (808) 522-8226 (fax), at least 5 days prior to the meeting date.

Authority: 16 U.S.C. 1801 et seq.

Dated: July 13, 2016.
Tracey L. Thompson,
Acting Deputy Director, Office of Sustainable Fisheries National Marine Fisheries Service.

[FR Doc. 2016-16914 Filed 7-15-16; 8:45 am]

BILLING CODE 3510-22-P